DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of persons whose property and interests in property have been unblocked and removed from the list of Specially Designated Nationals and Blocked Persons.

DATES: See Supplementary Information section.

FOR FURTHER INFORMATION CONTACT: OFAC: Associate Director for Global Targeting, tel: 202-622-2420; Assistant Director for Licensing, tel.: 202-622-2480; Assistant Director for Regulatory Affairs, tel.: 202-622-4855; Assistant Director for Sanctions Compliance & Evaluation, tel.: 202-622-2490; or the Department of the Treasury's Office of the General Counsel: Office of the Chief Counsel (Foreign Assets Control), tel.: 202-622-2410.

SUPPLEMENTARY INFORMATION:

Electronic Availability

The list of Specially Designated Nationals and Blocked Persons (SDN List) and additional information concerning OFAC sanctions programs are available on OFAC's website (http://www.treasury.gov/ofac).

Notice of OFAC Actions

On September 22, 2021, OFAC determined that the property and interests in property of the following persons are unblocked and removed from the SDN List.

Individuals

1. FREGOSO GONZALEZ, Marco Antonio, Av. Patria 2085, Mezzanine, Col. Puerta de Hierro, Guadalajara, Jalisco 45116, Mexico; Francisco Javier Gamboa 388-201, Col. Americana, Guadalajara, Jalisco 44110, Mexico; DOB 23 Sep 1978; POB Zapopan, Jalisco, Mexico; citizen Mexico; Gender Male; Passport G01106795 (Mexico); R.F.C. FEGM780923PH4 (Mexico); C.U.R.P. FEGM780923HJCRNR01 (Mexico); alt. C.U.R.P. FEGM780923HJCRNR19 (Mexico) (individual) [SDNTK] (Linked To: GRUPO NUTRICIONAL ALHOMA, S.A. DE C.V.).

2. HEREDIA HORNER, Mauricio, Calle Ceja de la Barranca 500-4, Fracc. Loma Real, Zapopan, Jalisco 45110, Mexico; Blvd. Puerta de Hierro 5210-6, Col. Puerta de Hierro, Zapopan, Jalisco 45116, Mexico; J.J. Martinez Aguirre 4248, Ciudad de los Ninos, Zapopan, Jalisco 45040, Mexico; Toltecas 3134, Fracc. Monraz, Guadalajara, Jalisco 44670, Mexico; Eulogio Parra 3200, Piso 2, Local 21, Fracc. Monraz, Guadalajara, Jalisco 44670, Mexico; Popocatepetl 2907-1, Col. Ciudad del Sol, Zapopan, Jalisco, Mexico; DOB 29 Jul 1978; POB Guadalajara, Jalisco, Mexico; citizen Mexico; Gender Male; R.F.C. HEHM780729FZ5 (Mexico); alt. R.F.C. HEHM780729HJC (Mexico); C.U.R.P. HEHM780729HJCRRR07 (Mexico) (individual) [SDNTK] (Linked To: ESCUELA DE FUTBOL RAFAEL MARQUEZ, ASOCIACION CIVIL; Linked To: FUTBOL Y CORAZON, ASOCIACION CIVIL; Linked To: GRUPO DEPORTIVO ALVANER, S.A. DE C.V.; Linked To: GRUPO DEPORTIVO MARQUEZ PARDO, S. DE R.L. DE C.V.; Linked To: GRUPO NUTRICIONAL ALHOMA, S.A. DE C.V.; Linked To: GRUPO TERAPEUTICO HORMARAL, S.A. DE C.V.; Linked To: GRUPO TERAPEUTICO PUERTO VALLARTA, S.A. DE C.V.; Linked To: PROSPORT & HEALTH IMAGEN, S.A. DE C.V.; Linked To: SERVICIOS EDUCATIVOS Y DE NEGOCIOS, S. DE R.L. DE C.V.).

3. MARQUEZ ALVAREZ, Rafael (a.k.a. MARQUEZ, Rafa), Calle Popocatepetl 2907-1, Col. Ciudad del Sol, Zapopan, Jalisco, Mexico; Toltecas 3134, Fracc. Monraz, Guadalajara, Jalisco 44670, Mexico; Av. Patria 2085, Mezzanine, Col. Puerta de Hierro, Zapopan, Jalisco 45116, Mexico; Moliere 330-303, Col. Polanco, Mexico, Distrito Federal 11560, Mexico; J.J. Martinez Aguirre 4248, Ciudad de los Ninos, Zapopan, Jalisco 45040, Mexico; Blvd. Adolfo Lopez Mateos 1810, Col. La Martinica, Leon, Guanajuato, Mexico; DOB 13 Feb 1979; POB Zamora, Michoacan de Ocampo, Mexico; citizen Mexico; Gender Male; R.F.C. MAAR7902132V4 (Mexico); C.U.R.P. MAAR790213HMNRLF03 (Mexico) (individual) [SDNTK] (Linked To: ESCUELA DE FUTBOL RAFAEL MARQUEZ, ASOCIACION CIVIL; Linked To: FUTBOL Y CORAZON, ASOCIACION CIVIL; Linked To: GRUPO DEPORTIVO ALVANER, S.A. DE C.V.; Linked To: FLORES DRUG TRAFFICKING ORGANIZATION; Linked To: GRUPO DEPORTIVO MARQUEZ PARDO, S. DE R.L. DE C.V.; Linked To: GRUPO NUTRICIONAL ALHOMA, S.A. DE C.V.; Linked To: GRUPO TERAPEUTICO HORMARAL, S.A. DE C.V.; Linked To: GRUPO TERAPEUTICO PUERTO VALLARTA, S.A. DE C.V.; Linked To: PROSPORT & HEALTH IMAGEN, S.A. DE C.V.).

4. ABOUZAID EL BAYEH, Salime, Paseo de los Virreyes 951-A20, Fraccionamiento Virreyes, Zapopan, Jalisco, Mexico; DOB 28 Nov 1983; POB Guadalajara, Jalisco, Mexico; Gender Female; C.U.R.P. AOBS831128MJCBYL09 (Mexico) (individual) [SDNTK] (Linked To: COMERCIALIZADORA TRADE CLEAR, S.A. DE C.V.; Linked To: GRUPO DE ALTA ESPECIALIDAD FARMACEUTICA, S.A. DE C.V.; Linked To: LOS CUINIS; Linked To: CARTEL DE JALISCO NUEVA GENERACION).

5. MONJE ALVARADO, Jonh Eduarth; DOB 09 May 1969; POB Caqueta, Florencia, Colombia; Cedula No. 1673727 (Colombia) (individual) [SDNTK] (Linked To: AGRO NEGOCIOS SAJE LTDA.).

6. CHEAITELLY SAHELI, Ali Hassan (a.k.a. CHEAITELLI, Hassan; a.k.a. “CHEAITELLY, Alex”); DOB 05 Sep 1983; POB Colon, Panama; Cedula No. 3-712-2418 (Panama) (individual) [SDNTK] (Linked To: PRODUCERS GROUP CORP.; Linked To: SANTA MARIA INTERNATIONAL TRADING CORP.; Linked To: SILVER HOUSE, INC.; Linked To: EUROCAMBIO, S.A.; Linked To: INMOBILIARIA DAVITOV S.A.; Linked To: FUNDACION H.M.M.).

7. FADLALLAH CHEAITELLY, Jorge (a.k.a. CHEAITELLY SAHELE, Jorge Ali; a.k.a. “GIORGIO”); DOB 20 Dec 1960; POB Maicao, La Guajira, Colombia; Cedula No. 17849451 (Colombia) (individual) [SDNTK] (Linked To: RESTAURANTE BEIRUT MEXICO S.A. DE C.V.; Linked To: BODEGA ELECTRO GIORGIO; Linked To: EUROCAMBIO, S.A.; Linked To: GENERAL COMMERCE OVERSEAS, INC.; Linked To: PRODUCERS GROUP CORP.; Linked To: ZEDRO INVESTMENT, S.A.; Linked To: GIORGINO CORPORATION OF PANAMA, S.A.; Linked To: GIORGIO CHEAITELLY INVESTMENT, S.A.; Linked To: GIORGIOTELLY, S.A.; Linked To: III MILLENIUM INTERNATIONAL; Linked To: J.H. EXIM INTERNACIONAL, S.A.; Linked To: SANTA MARIA INTERNATIONAL TRADING CORP.; Linked To: SILVER HOUSE, INC.; Linked To: OCEAN INDIC OVERSEAS, S.A.; Linked To: JUNIOR INTERNATIONAL S.A.; Linked To: CAFE DU LIBAN, S.A.).

8. FADLALLAH CHEAYTELLI, Jaime, c/o GENERAL COMMERCE OVERSEAS, INC.; c/o EURO EXCHANGE Y FINANCIAL COMMERCE, INC.; DOB 18 Jul 1967; POB Maicao, La Guajira, Colombia; Cedula No. 84048039 (Colombia) (individual) [SDNTK].

9. FADLALLATH CHEAITILLY, Fatima (a.k.a. FADLALLAH CHEAITELLY, Fatima), c/o ZEDRO INVESTMENT, S.A.; c/o GIORGINO CORPORATION OF PANAMA, S.A.; c/o GIORGIO CHEAITELLY INVESTMENT, S.A.; c/o SILVER HOUSE, INC.; c/o ALMACEN ELECTRO SONY STAR; c/o COMERCIAL GLOBANTY; DOB 08 Dec 1972; POB Maicao, La Guajira, Colombia; Cedula No. 56083194 (Colombia) (individual) [SDNTK].

10. MARTINEZ LASSO, Vielka Judith; DOB 09 Nov 1967; POB El Higo, San Carlos, Panama; Cedula No. 8-283-646 (Panama) (individual) [SDNTK] (Linked To: INVERSIONES OMEGA INTERNACIONAL S.A.; Linked To: EURO FINANCING, CORP.; Linked To: EUROCAMBIO INVESTMENT S.A.; Linked To: INVERSIONES TROL PANAMA S.A.; Linked To: EUROCAMBIO, S.A.; Linked To: BEAUTY STATION, S.A.).

11. MORAN SANCHEZ, Maria Janette (a.k.a. MORAN SANCHEZ, Janet); DOB 15 Nov 1956; POB Panama; Cedula No. 2-84-1948 (Panama) (individual) [SDNTK] (Linked To: BERLIN INDUSTRIES, CORP.; Linked To: INVERSIONES OMEGA INTERNACIONAL S.A.; Linked To: EURO FINANCING, CORP.; Linked To: EUROCAMBIO INVESTMENT S.A.; Linked To: BEAUTY STATION, S.A.; Linked To: INVERSIONES TROL PANAMA S.A.).

12. PLATA RIVERA, Ignacio Eduardo; DOB 01 Jan 1935; POB Panama City, Panama; citizen Panama; Cedula No. 8-78-897 (Panama) (individual) [SDNTK] (Linked To: GENERAL COMMERCE OVERSEAS, INC.; Linked To: EURO FINANCING, CORP.; Linked To: EUROCAMBIO, S.A.).

13. OMEARA NAVARRO, Marylu (a.k.a. OMEARA NAVARRO DE CHEAITELLY, Marylu; a.k.a. OMEARA NAVARRO, Mary Lu); DOB 12 Feb 1960; POB Colombia; Cedula No. E-8-101804; Passport AB304459 (Colombia) (individual) [SDNTK] (Linked To: INMOBILIARIA DAVITOV S.A.; Linked To: FUNDACION H.M.M.; Linked To: INVERSIONES OMEGA INTERNACIONAL S.A.).

14. GRAJALES MARIN, Aura Cecilia, Carrera 15 No. 33A-53, Cali, Colombia; c/o INVERSIONES SANTA CECILIA S.C.S., La Union, Valle, Colombia; c/o INVERSIONES SANTA MONICA LTDA., La Union, Valle, Colombia; Cedula No. 21236002 (Colombia) (individual) [SDNT].

15. GRAJALES MARIN, Carlos Arturo, c/o INVERSIONES SANTA CECILIA S.C.S., La Union, Valle, Colombia; c/o INVERSIONES SANTA MONICA LTDA., La Union, Valle, Colombia; Cedula No. 63568339 (Colombia) (individual) [SDNT].

16. GRAJALES POSSO, Gloria Amparo, c/o IBADAN LTDA., Tulua, Valle, Colombia; c/o INVERSIONES AGUILA LTDA., La Union, Valle, Colombia; Cedula No. 29613755 (Colombia) (individual) [SDNT].

Entities

1. ESCUELA DE FUTBOL RAFAEL MARQUEZ, ASOCIACION CIVIL (a.k.a. ESC DE FUTBOL RAFAEL MARQUEZ; a.k.a. ESCUELA DE FUTBOL RAFAEL MARQUEZ), Guadalajara, Jalisco, Mexico; Av. del Bajio 1134, Col. El Bajio, Guadalajara, Jalisco, Mexico; Del Bajio 1134, San Juan de Ocotan, Guadalajara, Jalisco, Mexico; Folio Mercantil No. 23461 (Jalisco) (Mexico) [SDNTK].

2. FUTBOL Y CORAZON, ASOCIACION CIVIL (a.k.a. CENTRO INFANTIL RM; a.k.a. FUNDACION FUTBOL Y CORAZON, A.C.; a.k.a. FUNDACION RAFA MARQUEZ; a.k.a. FUNDACION RAFA MARQUEZ FUTBOL Y CORAZON, A.C.; a.k.a. FUTBOL Y CORAZON, A.C.; a.k.a. RAFA MARQUEZ FOUNDATION), Guadalajara, Jalisco, Mexico; Av. Xochitl 4262-6, Prados del Tepeyac, Zapopan, Jalisco 45050, Mexico; Popocatepetl 2907, Col. Ciudad del Sol, Zapopan, Jalisco 45050, Mexico; Santa Isabel 62, Col. Santa Isabel, Tonala, Jalisco, Mexico; Lic. Alfonso Garcia Robles 74, Col. Adolfo Lopez Mateos, Zamora, Michoacan, Mexico; Privada Primitivo Torres 52, Col. El Terrero, El Quince, El Salto, Jalisco 45680, Mexico; alt. Website www.fundacionrafamarquez.org; R.F.C. FCO0505306V0 (Mexico); Folio Mercantil No. 10328 (Jalisco) (Mexico) [SDNTK].

3. GRUPO DEPORTIVO ALVANER, S.A. DE C.V., Guadalajara, Jalisco, Mexico; Folio Mercantil No. 72016 (Jalisco) (Mexico) [SDNTK].

4. GRUPO DEPORTIVO MARQUEZ PARDO, S. DE R.L. DE C.V., Guadalajara, Jalisco, Mexico; Popocatepetl 2907-1, Col. Ciudad del Sol, Zapopan, Jalisco 45050, Mexico; R.F.C. GDM090907NE0 (Mexico); Folio Mercantil No. 51360 (Jalisco) (Mexico) [SDNTK].

5. GRUPO NUTRICIONAL ALHOMA, S.A. DE C.V., Guadalajara, Jalisco, Mexico; Av. Lopez Mateos Sur 1710-4, Fracc. El Palomar, Tlajomulco de Zuniga, Jalisco 45643, Mexico; R.F.C. GNA120828LL8 (Mexico); Folio Mercantil No. 69366 (Jalisco) (Mexico) [SDNTK].

6. GRUPO TERAPEUTICO HORMARAL, S.A. DE C.V. (a.k.a. GRUPO TERAPEUTICO HERMORAL, S.A. DE C.V.; a.k.a. PRO SPORT & HEALTH; a.k.a. PROSPORT & HEALTH; a.k.a. PROSPORT&HEALTH), Guadalajara, Jalisco, Mexico; Av. General Eulogio Parra 3200-21, Fracc. Terrazas Monraz, Guadalajara, Jalisco 44670, Mexico; Calle Lisboa 175, Col. Versalles, Puerto Vallarta, Jalisco, Mexico; website www.prosport.mx; R.F.C. GTH1206069J8 (Mexico); Folio Mercantil No. 68188 (Jalisco) (Mexico) [SDNTK].

7. GRUPO TERAPEUTICO PUERTO VALLARTA, S.A. DE C.V. (a.k.a. GRUPO TERAPEUTICO DE VALLARTA, S.A. DE C.V.; a.k.a. PROSPORT & HEALTH), Puerto Vallarta, Jalisco, Mexico; Lisboa 175, Col. Versalles, Puerto Vallarta, Jalisco 48320, Mexico; Folio Mercantil No. 16405 (Jalisco) (Mexico) [SDNTK].

8. PROSPORT & HEALTH IMAGEN, S.A. DE C.V. (a.k.a. PROSPORT & HEALTH, S.A. DE C.V.; a.k.a. PROSPORT Y HEALTH IMAGEN, S.A. DE C.V.), Guadalajara, Jalisco, Mexico; Calle Golfo de Cortes 4114, Local 4 y 5, Col. Monraz, Guadalajara, Jalisco 44670, Mexico; website www.pshimagen.mx; R.F.C. PAH130925LG0 (Mexico); alt. R.F.C. PAH130925IG0 (Mexico); Folio Mercantil No. 77129 (Jalisco) (Mexico) [SDNTK].

9. SERVICIOS EDUCATIVOS Y DE NEGOCIOS, S. DE R.L. DE C.V., Zapopan, Jalisco, Mexico; Folio Mercantil No. 51560 (Jalisco) (Mexico) [SDNTK].

10. GRUPO DE ALTA ESPECIALIDAD FARMACEUTICA, S.A. DE C.V., Av. Vallarta No. 3133, Col. Vallarta Poniente, Guadalajara, Jalisco 44110, Mexico; Toltecas 3579, Colonia Santa Rita, Zapopan, Jalisco, Mexico; R.F.C. GAE-060123-3TA (Mexico) [SDNTK].

11. AGRO NEGOCIOS SAJE LTDA., Carrera 15A No. 121-12, Ofc. 504, Bogota, Colombia; NIT # 9002933274 (Colombia); Matricula Mercantil No 1903808 (Colombia) [SDNTK].

12. BODEGA ELECTRO GIORGIO, Calle 14 No. 8-67, Maicao, La Guajira, Colombia; Matricula Mercantil No 00027344 (Colombia) [SDNTK].

13. CAFE DU LIBAN, S.A., Avenida Eloy Alfaro, Panama City, Panama; RUC # 36266-1-368869 (Panama) [SDNTK].

14. COMERCIAL GLOBANTY, Calle 13, No. 10-19, Local 02, Maicao, La Guajira, Colombia; Calle 13, No. 10-36, Maicao, La Guajira, Colombia; NIT # 56083194-1 (Colombia); Matricula Mercantil No 102964 (Colombia) [SDNTK].

15. EURO EXCHANGE Y FINANCIAL COMMERCE, INC. (a.k.a. “EUREX”), Avenida Eusebio A Morales y Via Veneto—Hotel Veneto, Planta Baja, Local 6, Panama City, Panama; Edificio Servicios Aeroportuarios, Segundo Piso, Local 12, Panama City, Panama; RUC # 1652278-1-675861 (Panama) [SDNTK].

16. EUROCAMBIO, S.A. (a.k.a. “CASA DE CAMBIO EUROCAMBIO”), Calle Ricardo Arias, Edificio Macondo, Local 2-A, Panama City, Panama; RUC # 17762-1-366473 (Panama) [SDNTK].

17. FUNDACION H.M.M., Panama City, Panama; RUC # 1767437-1-41487 (Panama) [SDNTK].

18. GENERAL COMMERCE OVERSEAS, INC., Calle Ricardo Arias, Edificio Macondo, Local 2-A, Panama City, Panama; RUC # 1109850-1-561818 (Panama) [SDNTK].

19. GIORGINO CORPORATION OF PANAMA, S.A., Panama; RUC # 27216-2-227535 (Panama) [SDNTK].

20. GIORGIO CHEAITELLY INVESTMENT, S.A., Panama; RUC # 31850-2-245132 (Panama) [SDNTK].

21. GIORGIOTELLY, S.A., Panama; RUC # 33518-38-252229 (Panama) [SDNTK].

22. III MILLENIUM INTERNATIONAL, Panama; RUC # 16927-1-366365 (Panama) [SDNTK].

23. INMOBILIARIA DAVITOV S.A., Panama City, Panama; RUC # 33672-51-252853 (Panama) [SDNTK].

24. INVERSIONES OMEGA INTERNACIONAL S.A., Panama; RUC # 1367799-1-621064 (Panama) [SDNTK].

25. J.H. EXIM INTERNACIONAL, S.A., Panama; RUC # 46110-70-302460 (Panama) [SDNTK].

26. OCEAN INDIC OVERSEAS, S.A., Panama; RUC # 21523-11-193299 (Panama) [SDNTK].

27. PRODUCERS GROUP CORP., Panama; RUC # 59443-40-344348 (Panama) [SDNTK].

28. RESTAURANTE BEIRUT MEXICO S.A. DE C.V. (a.k.a. RESTAURANTE BAR BEIRUT Y LAS MIL Y UNA NOCHES), Juan Salvador Agraz No. 50, Colonias Lomas de Santa Fe, Delegacion Cuajimalpa, Ciudad de Mexico, Mexico; RFC RBM-1000208-KB5 (Mexico) [SDNTK].

29. SANTA MARIA INTERNATIONAL TRADING CORP., Panama; RUC # 45579-11-300568 (Panama) [SDNTK].

30. SILVER HOUSE, INC., Panama; RUC # 1258011-1-80105701 (Panama) [SDNTK].

31. ZEDRO INVESTMENT, S.A., Panama; RUC # 31906-42-245391 (Panama) [SDNTK].

32. BEAUTY STATION, S.A., Panama City, Panama; RUC # 2224264-1-776957 (Panama) [SDNTK].

33. BERLIN INDUSTRIES, CORP., Panama City, Panama; RUC # 748891-1-479617 (Panama) [SDNTK].

34. BERLIN INTERNACIONAL S.A., Colon, Panama; RUC # 4392-35-59025 (Panama) [SDNTK].

35. EURO FINANCING, CORP., Panama; RUC # 1579574-1-662275 (Panama) [SDNTK].

36. EUROCAMBIO INVESTMENT S.A., Panama; RUC # 1561469-1-659119 (Panama) [SDNTK].

37. INVERSIONES TROL PANAMA S.A., Panama; RUC # 1950017-1-731674 (Panama) [SDNTK].

Dated: September 22, 2021.
Gregory T. Gatjanis,
Associate Director, Office of Global Targeting, Office of Foreign Assets Control.

[FR Doc. 2021-20909 Filed 9-24-21; 8:45 am]

BILLING CODE 4810-AL-P